ENVIRONMENTAL PROTECTION AGENCY

[EPA-HQ-OAR-2010-0682; FRL-9260-9]

Agency Information Collection Activities; Submission to OMB for Review and Approval; Comment Request; NSPS and NESHAP for Petroleum Refinery Sector Residual Risk and Technology Review (RTR) (New Collection); EPA ICR No. 2411.01, OMB Control No. 2060-NEW

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before March 4, 2011.

ADDRESSES: Submit your comments, identified by Docket ID No. EPA-HQ-OAR-2010-0682, to (1) EPA online using http://www.regulations.gov (our preferred method), by e-mail to a-and-r-Docket@epa.gov, or by mail to: EPA Docket Center, Environmental Protection Agency, Air and Radiation Docket, Mail Code 28221T, 1200 Pennsylvania Ave., NW., Washington, DC 20460, and (2) OMB by mail to: Office of Information and Regulatory Affairs, Office of Management and Budget, Attention: Desk Officer for EPA, 725 17th Street, NW., Washington, DC 20503.

FOR FURTHER INFORMATION CONTACT: Ms. Brenda Shine, Sector Policies and Programs Division (E143-01), Office of Air Quality Planning and Standards, Environmental Protection Agency, Research Triangle Park, NC 27711; telephone number: (919) 541-3608; fax number: (919) 541-0246; e-mail address: shine.brenda@epa.gov.

SUPPLEMENTARY INFORMATION: EPA has submitted the following ICR to OMB for review and approval according to the procedures prescribed in 5 CFR 1320.12. On September 29, 2010 (75 FR 60107), EPA sought comments on this ICR pursuant to 5 CFR 1320.8(d). EPA received seven comment letters during the comment period. Any additional comments on the ICR should be submitted to EPA and OMB within 30 days of this notice.

EPA has established a public docket for this ICR under Docket ID No. EPA-HQ-OAR-2010-0682, which is available for online viewing at http://www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is (202) 566-1744, and the telephone number for the Air and Radiation Docket is (202) 566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: NSPS and NESHAP for Petroleum Refinery Sector Residual Risk and Technology Review (RTR) (New Collection).

ICR numbers: EPA ICR No. 2411.01, OMB Control No. 2060-NEW.

ICR status: This ICR is for a new information collection activity. An Agency may not conduct or sponsor, and a person is not required to respond to, a collection of information, unless it displays a currently valid OMB control number. The OMB control numbers for EPA's regulations in title 40 of the Code of Federal Regulations (CFR), after appearing in the Federal Register when approved, are listed in 40 CFR part 9, and are displayed either by publication in the Federal Register or by other appropriate means, such as on the related collection instrument or form, if applicable. The display of OMB control numbers in certain EPA regulations is consolidated in 40 CFR part 9.

Abstract: This information collection is being conducted by EPA's Office of Air and Radiation (OAR) to assist the EPA Administrator, as required by sections 111(b), 112(d), and 112(f)(6) of the Clean Air Act (CAA), as amended, to reevaluate emission standards for this source category. The non-confidential information from this information collection request (ICR) would also be made available to the public.

The proposed ICR has four components. To obtain the information necessary to identify and categorize all units potentially affected by any future revision to a standard, the first component of this ICR will solicit information from all potentially affected units at all 152 refineries in the format of an electronic survey under authority of section 114 of the CAA. This survey will include questions about the facility and individual emissions sources, and it will ask the owners/operators to submit cost data and provide copies of recent emissions test reports and continuous emission monitoring system (CEMS)/continuous monitoring system (CMS) data. The second component will ask the owners/operators to develop and provide an emissions inventory. The third component will ask the owners/operators to conduct sampling and analysis of the feed to the distillation columns at their refinery over a specific time period. The first three components will be submitted to all facilities listed in the Energy Information Administration's Refinery Capacity Report 2009. The fourth component will consist of requiring emissions testing, again pursuant to the authority of section 114 of the CAA.

EPA is issuing a single collection of information for sources covered under 40 CFR part 63, subparts CC and UUU and 40 CFR part 60, subpart J so that EPA can, at one time, assess whether additional control strategies are necessary and, if so, which are the most effective for hazardous air pollutants (HAP), regulated under CAA section 112, and criteria air pollutants (such as particulate matter, sulfur dioxide, and nitrogen oxide), regulated under CAA section 111. The data would also allow EPA to evaluate compliance options for startup and shutdown periods and consider ways to consolidate monitoring, reporting and recordkeeping requirements for the different rules under review. The data may also help EPA conduct reviews of other rules specific to petroleum refineries, including Standards of Performance for Equipment Leaks of VOC in Petroleum Refineries (40 CFR part 60, subpart GGG), Standards of Performance for VOC Emissions from Petroleum Refinery Wastewater Systems (40 CFR part 60, subpart QQQ), and the National Emission Standard for Benzene Waste Operations (40 CFR part 61, subpart FF).

The data collected will be used to update and augment facility and emissions source information already available to the Agency, develop new estimates of the population of affected units, and identify the control measures and alternative emission limits being used for compliance with the existing rules that are under review. This information, along with existing emission limits, will be used to establish the baseline emissions and control levels for purposes of the regulatory reviews. The emissions test data (test reports, CEMS data, and CMS data) collected will be used to assess the effectiveness of existing control measures, examine variability in emissions, evaluate the stringency of existing emission limits, identify the most effective control measures considered for purposes of reducing residual risk, and provide a basis for estimating nationwide emissions from emissions sources for which EPA has little information. Emissions data will also be used, along with process and emissions unit details, to consider options for best demonstrated technology under the NSPS review, to consider subcategories for further regulation, and to estimate the environmental and cost impacts associated with any regulatory options considered.

Burden Statement: The annual public reporting and recordkeeping burden for this collection of information is estimated to average 256 hours per response. Burden means the total time, effort, or financial resources expended by persons to generate, maintain, retain, or disclose or provide information to or for a Federal agency. This includes the time needed to review instructions; develop, acquire, install, and use technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Respondents affected by this action are owners/operators of petroleum refineries, all of which are expected to have the potential to be subject to one of the regulatory standards being reviewed or developed by EPA. Petroleum refineries are facilities engaged in refining and producing products made from crude oil or unfinished petroleum derivatives.

Estimated Number of Respondents: 152.

Frequency of response: Once.

Estimated total annual burden hours: 69,342 hours.

Estimated total annual burden costs: $30,924,069, which includes $912 in O&M costs.

Dated: January 26, 2011.
John Moses,
Director, Collection Strategies Division.

[FR Doc. 2011-2273 Filed 2-1-11; 8:45 am]

BILLING CODE 6560-50-P